DEPARTMENT OF COMMERCE

National Oceanic and Atmospheric Administration

[I.D. 031303A]

Incidental Take of Marine Mammals; Bottlenose Dolphins and Spotted Dolphins

AGENCY: National Marine Fisheries Service (NMFS), National Oceanic and Atmospheric Administration (NOAA), Commerce.

ACTION: Notice of issuance of letters of authorization.

SUMMARY: In accordance with the Marine Mammal Protection Act (MMPA) and implementing regulations, notification is hereby given that 8 letters of authorization (LOAs) to take bottlenose and spotted dolphins incidental to oil and gas structure removal activities were issued.

ADDRESSES: The applications and letters are available for review in the following offices: Office of Protected Resources, NMFS, 1315 East-West Highway, Silver Spring, MD 20910, and the Southeast Region, NMFS, 9721 Executive Center Drive N, St. Petersburg, FL 33702.

FOR FURTHER INFORMATION CONTACT: Kimberly Skrupky, Office of Protected Resources, NMFS, (301) 713-2055, ext. 163.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made and regulations are issued. Under the MMPA, the term “taking” means to harass, hunt, capture, or kill or to attempt to harass, hunt, capture or kill marine mammals.

Permission may be granted if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat, and on the availability of the species for subsistence uses, paying particular attention to rookeries, mating grounds, and areas of similar significance. The regulations must include requirements pertaining to the monitoring and reporting of such taking. Regulations governing the taking of bottlenose and spotted dolphins incidental to oil and gas structure removal activities in the Gulf of Mexico were published on August 1, 2002 (67 FR 49869), and remain in effect until February 2, 2004. Issuance of these letters of authorization are based on a finding that the total takings will have a negligible impact on the bottlenose and spotted dolphin stocks of the Gulf of Mexico.

Letters of Authorization were issued to:

(1). Anadarko E&P Company LP of Houston, TX, 77251, on March 19, 2003;

(2). Stone Energy Corporation of Lafayette, LA, 70505, on March 19, 2003;

(3). ExxonMobil Production Company of New Orleans, LA, 70161, on March 19, 2003;

(4). Amerada Hess Corporation, 500 Dallas Street, Houston, Texas, 77002, on April 9, 2003;

(5). Hunt Oil Company, P.O. Box 727, Scott, Louisiana, 70583, on April 9, 2003;

(6). Samedan Oil Company, 350 Glenborough, Suite 240, Houston, Texas, 77067-3299, on April 17, 2003;

(7). W&T Offshore Inc., 3900 North Causeway Boulevard, One Lakeway Center, Suite 1200, Metairie, Louisiana, 70002, on April 17, 2003; and

(8). Burlington Resources, 400 N. Sam Houston Parkway E., Suite 1200, Houston, Texas, 77060-3593, on April 28, 2003.

Dated: Apr 30, 2003.
Laurie K. Allen,
Acting Office Director, Office of Protected Resources, National Marine Fisheries Service.

[FR Doc. 03-11376 Filed 5-6-03; 8:45 am]

BILLING CODE 3510-22-S